DEPARTMENT OF ENERGY

Bonneville Power Administration

Mercer Ranch Power Project

AGENCY: Bonneville Power Administration (BPA), Department of Energy (DOE).

ACTION: Notice of intent to prepare an Environmental Impact Statement (EIS).

SUMMARY: This notice announces BPA's intention to prepare a joint National Environmental Policy Act (NEPA)/State Environmental Policy Act (SEPA) EIS in cooperation with the State of Washington Energy Facility Site Evaluation Council (EFSEC) for an electrical interconnection with a proposed power plant. BPA is the lead Federal agency under NEPA and EFSEC is the lead Washington State agency under SEPA. The Mercer Ranch Power Project is an 800-megawatt (MW) generating station proposed by Mercer Ranch Power LLC (MRP) that would be located between the communities of Paterson and Roosevelt in Benton County, Washington. MRP has requested an interconnection to BPA's transmission system that would allow power delivery to customers in the Pacific Northwest. A switchyard will be constructed to integrate power from the generating station into the Federal Columbia River Transmission System (FCRTS). BPA proposes to execute an agreement with MRP to provide the interconnection and transmission of power.

ADDRESSES: To be placed on the project mailing list, including notification of proposed meetings, call toll-free 1-800-622-4520, name this project, and leave your complete name and address. To comment, call toll-free 1-800-622-4519; send an e-mail to the BPA Internet address comment@bpa.gov; or send a letter to Communications, Bonneville Power Administration—KC-7, P.O. Box 12999, Portland, Oregon, 97212.

FOR FURTHER INFORMATION, CONTACT: Donald L. Rose, Bonneville Power Administration—KEC-4, P.O. Box 3621, Portland, Oregon, 97208-3621; toll-free telephone 1-800-282-3713; direct telephone 503-230-3796; or e-mail dlrose@bpa.gov. Additional information can be found at BPA's web site, www.bpa.gov; and EFSEC's web site, www.efsec.wa.gov.

SUPPLEMENTARY INFORMATION: The EIS will assess the environmental consequences of the proposed project, including:

• The proposed interconnection agreement with MRP;

• The construction and operation of the power plant;

• The construction and operation of less than one-half mile of natural gas pipeline to tie into Northwest Pipeline Corporation (NWP) pipeline;

• The construction and operation of an interconnection to the FCRTS consisting of:

• Approximately one-half mile of 500-kilovolt (kV) transmission line; and

• A new 500-kV switchyard (Crow Butte) linking the Mercer Ranch Power Project to one or more BPA 500-kV transmission lines.

Later this winter, one or more EIS scoping meetings will be held by BPA, EFSEC, and MRP to provide information on the project and associated BPA transmission interconnection and upgrades and to identify topics to be addressed in the EIS. A 45-day comment period will be announced, during which affected landowners, concerned citizens, special interest groups, local governments, and any other interested parties are invited to comment on the scope of the proposed EIS. A 30-day notice of the meeting(s), including time and location, will be provided to interested persons. At the meeting(s), BPA and EFSEC will answer questions and accept oral and written comments.

Receiving comments from interested parties will ensure BPA and EFSEC address the full range of issues and potentially significant impacts related to the proposed project in the EIS. When completed, the Draft EIS will be circulated for review and comment. BPA and EFSEC will hold at least one public comment meeting on the Draft EIS. BPA and EFSEC will consider and respond in the Final EIS to comments received on the Draft EIS.

Proposed Action. MRP proposes to construct the Mercer Ranch Power Project, a new power plant in southwestern Benton County, Washington. The proposed capacity of the plant is nominally 800 MW, which brings the project under the jurisdiction of the Energy Facility Site Evaluation Council (EFSEC) for the State of Washington.

The MRP generating facility will be designed for a life of 40 years. The project is proposed to be constructed as a merchant plant for electric power generation, with generated power routed to the FCRTS.

The new power plant will be located on a site consisting of approximately 40 acres, adjacent to approximately 9,000 acres of irrigated cropland owned by Mercer Ranches, Inc. This site is located in unincorporated Benton County, near the border with Klickitat County. It is approximately 12 miles west of the unincorporated town of Paterson, Washington; 17 miles east of the unincorporated town of Roosevelt; and 2.5 miles north of the Columbia River. The project site is approximately 500 feet above sea level and 245 feet above the normal Columbia River elevation.

The sole fuel for the power generation facility will be pipeline-quality natural gas. Gas transportation services will be provided by the NWP natural gas transmission pipeline, which runs through the plant site. It is anticipated that the natural gas tie-in pipeline will be constructed and owned by MRP since it will be on land owned by MRP.

The power plant will include three individual generating units. Each unit will consist of one General Electric PG7241FA combustion turbine generator (CTG), one triple pressure reheat type Heat Recovery Steam Generator (HRSG) with natural gas supplementary firing capabilities, and one reheat Steam Turbine Generator (STG). The CTGs and the HRSG supplemental firing system will burn only natural gas. Additional equipment dedicated to each unit will include generator step-up transformers, electrical distribution gear, and all associated ancillary equipment. The plant will also use air-cooling technologies for condensing low-pressure steam. Water for plant operations will come from the Columbia River via existing surface water rights.

The Mercer Ranch power project would deliver electricity to the regional power grid through an interconnection to one or more BPA 500-kV transmission line near the plant. The interconnection and proposed upgrade to the transmission grid would include less than one-half mile of new 500-kV transmission line (approximately 2 to 3 towers) and a switchyard (Crow Butte) consisting of up to eight bays to be located east of Dead Canyon. The switchyard would connect the power plant to the existing Ashe-Slatt #1 transmission line and may intertie to the Ashe-Marion #2 500-kV transmission line and the proposed John Day-McNary 500-kV transmission line.

Responsibility for construction and operation of the power plant is principally with MRP. MRP would construct and own the interconnecting 500-kV transmission line. BPA would construct and operate the switchyard.

Process to Date. BPA is the lead Federal agency for the joint NEPA/SEPA EIS, and EFSEC is the lead Washington State agency. EFSEC has already held open houses introducing the MRP Project to interested parties in Benton County. MRP will prepare an Application for Site Certification and submit it to EFSEC in January 2002. The application will address the MRP Project in detail. BPA and EFSEC will conduct joint scoping meetings after receipt and preliminary review of the initial submission.

Alternatives Proposed for Consideration. Alternatives thus far identified for evaluation in the EIS are (1) the proposed actions, and (2) no action. Other alternatives may be identified through the scoping process.

Identification of Environmental Issues. EFSEC will prepare an EIS consistent with its responsibilities under Chapter 80.50 of the Revised Code of Washington and Chapter 197-11 of the Washington Administrative Code. BPA must make a decision whether to construct the proposed switchyard and interconnect the proposed power plant to the regional transmission grid. Therefore, BPA and EFSEC intend to prepare a joint NEPA/SEPA EIS addressing both the power plant and the associated electric power interconnection and transmission facilities. The principal issues identified thus far for consideration in the Draft EIS are (1) air quality impacts, (2) aesthetic and visual impacts, (3) socio-economic impacts, (4) wetlands and wildlife habitat impacts, (5) water quality impacts, and (6) cultural resource impacts. These issues, together with any additional significant issues identified through the scoping process, will be addressed in the EIS.

Issued in Portland, Oregon, on December 18, 2001.
Stephen J. Wright,
Acting Administrator and Chief Executive Officer.

[FR Doc. 01-31920 Filed 12-27-01; 8:45 am]

BILLING CODE 6450-01-U